NUCLEAR REGULATORY COMMISSION

[Docket Nos. 50-280 and 50-281; NRC-2018-0247]

Virginia Electric and Power Company; Dominion Energy Virginia; Surry Power Station, Unit Nos. 1 and 2

AGENCY: Nuclear Regulatory Commission.

ACTION: License renewal application; opportunity to request a hearing and to petition for leave to intervene; correction and extension of date.

SUMMARY: The U.S. Nuclear Regulatory Commission (NRC) is correcting a notice that was published in the Federal Register (FR) on December 10, 2018, considering an application for the subsequent license renewal of Renewed Facility Operating License Nos. DPR-32 and DPR-37, which authorize Virginia Electric and Power Company (Dominion Energy Virginia or the applicant) to operate Surry Power Station (SPS), Unit Nos. 1 and 2. This action is necessary to correct the February 5, 2019, date to request a hearing and to petition for leave to intervene.

DATES: The date to request a hearing, and petition for leave to intervene in the document published on December 10, 2018 (83 FR 63541) is corrected and extended. Requests for a hearing or petition for leave to intervene must be filed by February 15, 2019. The correction is effective December 17, 2018.

ADDRESSES: You may submit comments by any of the following methods:

• Federal Rulemaking website: Go to http://www.regulations.gov and search for Docket ID NRC-2018-0247. Address questions about Docket IDs in Regulations.gov to Krupskaya Castellon; telephone: 301-287-9221; email: Krupskaya.Castellon@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Emmanuel Sayoc, Office of Nuclear Reactor Regulation, U.S. Nuclear Regulatory Commission, Washington DC 20555-0001; telephone: 301-415-4084, email: Emmanuel.Sayoc@nrc.gov.

SUPPLEMENTARY INFORMATION: In the FR published December 10, 2018 (83 FR 63541), the date to request a hearing, and petition for leave to intervene of February 5, 2019, is corrected and extended.

Dated at Rockville, Maryland, this 12th day of December, 2018.
For the Nuclear Regulatory Commission.
Eric R. Oesterle,
Chief, License Renewal Project Branch, Division of Materials and License Renewal, Office of Nuclear Reactor Regulation.

[FR Doc. 2018-27215 Filed 12-14-18; 8:45 am]

BILLING CODE 7590-01-P